DEPARTMENT OF COMMERCE

National Oceanic and Atmospheric Administration

[RTID 0648-XA044]

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: This meeting will be held on Tuesday, March 3, 2020 at 8:30 a.m.

ADDRESSES: The meeting will be held at the Four Points by Sheraton, One Audubon Road, Wakefield, MA 01880; telephone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Herring Advisory Panel will discuss goals and objectives and potential range of alternatives to consider in Framework 7, an action to protect spawning of Atlantic herring on Georges Bank. The panel will have an initial discussion of Framework 8, an action considering herring fishery specifications for FY 2021-23 and adjust measures in the Herring Fishery Management Plan that potentially inhibit the mackerel fishery from achieving optimum yield. The Advisory Panel will have an opportunity to provide input on the Council's five-year research priorities related to the herring resource and fishery. The Atlantic States Marine Fisheries Commission (ASMFC) will host a public hearing on Addendum III. Addendum III is considering revisions to the days out program and quota management system in the Atlantic Herring Interstate Fishery Management Plan to better manage the Area 1A (inshore Gulf of Maine) sub-annual catch limit (ACL) under low quota scenarios. Staff from ASMFC will provide a summary of the draft addendum and there will be an opportunity for public comments. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: February 10, 2020.
Tracey L. Thompson,
Acting Deputy Director, Office of Sustainable Fisheries, National Marine Fisheries Service.

[FR Doc. 2020-02951 Filed 2-13-20; 8:45 am]

BILLING CODE 3510-22-P